DEPARTMENT OF TRANSPORTATION

Federal Aviation Administration

14 CFR Part 39

[Docket No. 2002-NM-283-AD]

RIN 2120-AA64

Airworthiness Directives; McDonnell Douglas Model DC-10-10, DC-10-10F, DC-10-15, DC-10-30, DC-10-30F, DC-10-30F (KC10A and KDC-10), DC-10-40, DC-10-40F, MD-10-10F, and MD-10-30F Airplanes

AGENCY: Federal Aviation Administration, DOT.

ACTION: Notice of proposed rulemaking (NPRM).

SUMMARY: This document proposes the supersedure of an existing airworthiness directive (AD), applicable to McDonnell Douglas transport category airplanes listed above, that currently requires a one-time detailed inspection to determine if wire segments of the wire bundle routed through the feed-through on the aft side of the flight engineer's station are damaged or chafed, and corrective actions if necessary. That AD also requires revising the wire bundle support clamp installation at the flight engineer's station. For certain airplanes, this action would require a new revision of the wire bundle support clamp installation, and modification of a certain wire bundle. This action also would reduce the applicability in the existing AD. The actions specified by the proposed AD are intended to prevent chafing of the wire bundle located behind the flight engineer's panel caused by the wire bundle coming in contact with the lower edge of the feed-through, and consequent electrical arcing, which could result in smoke and fire in the cockpit. This action is intended to address the identified unsafe condition.

DATES: Comments must be received by November 17, 2003.

ADDRESSES: Submit comments in triplicate to the Federal Aviation Administration (FAA), Transport Airplane Directorate, ANM-114, Attention: Rules Docket No. 2002-NM-283-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-283-AD” in the subject line and need not be submitted in triplicate. Comments sent via the Internet as attached electronic files must be formatted in Microsoft Word 97 or 2000 or ASCII text.

The service information referenced in the proposed rule may be obtained from Boeing Commercial Aircraft Group, Long Beach Division, 3855 Lakewood Boulevard, Long Beach, California 90846, Attention: Data and Service Management, Dept. C1-L5A (D800-0024). This information may be examined at the FAA, Transport Airplane Directorate, 1601 Lind Avenue, SW., Renton, Washington.

FOR FURTHER INFORMATION CONTACT: Natalie Phan-Tran, Aerospace Engineer, Systems and Equipment Branch, ANM-130L, FAA, Los Angeles Aircraft Certification Office, 3960 Paramount Boulevard, Lakewood, California 90712-4137; telephone (562) 627-5343; fax (562) 627-5210.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-283-AD.” The postcard will be date stamped and returned to the commenter.

Availability of NPRMs

Any person may obtain a copy of this NPRM by submitting a request to the FAA, Transport Airplane Directorate, ANM-114, Attention: Rules Docket No. 2002-NM-283-AD, 1601 Lind Avenue, SW., Renton, Washington 98055-4056.

Discussion

On November 8, 2001, the FAA issued AD 2001-24-21, amendment 39-12538 (66 FR 64121, December 12, 2001), applicable to all McDonnell Douglas Model DC-10 series airplanes and Model MD-10-10F and -30F series airplanes, to continue to require a one-time detailed inspection to determine if wire segments of the wire bundle routed through the feed-through on the aft side of the flight engineer's station are damaged or chafed, and corrective actions if necessary. That AD also requires revising the wire bundle support clamp installation at the flight engineer's station. The requirements of that AD are intended to prevent chafing of the wire bundle located behind the flight engineer's panel caused by the wire bundle coming in contact with the lower edge of the feed-through and consequent electrical arcing, which could result in smoke and fire in the cockpit.

Actions Since Issuance of Previous Rule

Since the issuance of AD 2001-24-21, the FAA has reviewed and approved Boeing Alert Service Bulletins DC10-24A149, Revision 03, dated September 19, 2002; and Revision 04, dated March 26, 2003. The inspection and repair procedures described in these revisions are identical to those described in Revisions 01 and 02 of the service bulletin (which were referenced in the existing AD as the appropriate sources of service information for accomplishment of the specified actions). The procedures for revising the wire bundle support clamp installation at the flight engineer's station described in Revision 02 have been changed to add procedures for installation and relocation of a new bracket when revising the wire bundle support clamp installation, and to add the revision of the wire bundle support clamp installation at the first observer's station for Group 3 airplanes, as specified in Revision 03. Revision 04 adds procedures for modification of Groups 1 and 2 airplanes on which wire bundle run (RDZ) is installed and was changed as specified in Revision 03 of the service bulletin.

The effectivity listing of Revisions 03 and 04 of the service bulletin have also been revised to remove inactive airplanes and to identify a new Group 3 (which includes the MD-10-10F and MD-10-30F airplanes), and a new Group 4, respectively.

Accomplishment of the actions specified in the service bulletins is intended to adequately address the identified unsafe condition.

Other Related Rulemaking

The FAA, in conjunction with Boeing and operators of Model DC-10 airplanes, has reviewed all aspects of the service history of those airplanes to identify potential unsafe conditions and to take appropriate corrective actions. This proposed AD is one of a series of corrective actions identified during that process. We have previously issued several other ADs and may consider further rulemaking actions to address the remaining identified unsafe conditions.

Explanation of Requirements of Proposed Rule

Since an unsafe condition has been identified that is likely to exist or develop on other products of this same type design, the proposed AD would supersede AD 2001-24-21 to continue to require a one-time detailed inspection to determine if wire segments of the wire bundle routed through the feed-through on the aft side of the flight engineer's station are damaged or chafed, and corrective actions if necessary. The proposed AD also would continue to require revising the wire bundle support clamp installation at the flight engineer's station. For certain airplanes, this action would require a new revision of the wire bundle support clamp installation, and modification of a certain wire bundle. This action also would reduce the applicability in the existing AD. The actions would be required to be accomplished in accordance with the service bulletins described previously.

Explanation of Change to Applicability

We have revised the applicability of the existing AD to identify model designations as published in the most recent type certificate data sheet for the affected models.

Explanation of Change Made To Existing Requirements

The FAA has changed all references to a “detailed visual inspection” in the existing AD to “detailed inspection” in this action.

Changes to 14 CFR Part 39/Effect on the AD

On July 10, 2002, the FAA issued a new version of 14 CFR part 39 (67 FR 47997, July 22, 2002), which governs the FAA's airworthiness directives system. The regulation now includes material that relates to altered products, special flight permits, and alternative methods of compliance (AMOCs). Because we have now included this material in part 39, only the office authorized to approve AMOCs is identified in each individual AD.

Change in Labor Rate

We have reviewed the figures we have used over the past several years to calculate AD costs to operators. To account for various inflationary costs in the airline industry, we find it necessary to increase the labor rate used in these calculations from $60 per work hour to $65 per work hour. The cost impact information, below, reflects this increase in the specified hourly labor rate.

Cost Impact

There are approximately 412 airplanes of the affected design in the worldwide fleet. The FAA estimates that 298 airplanes of U.S. registry would be affected by this proposed AD.

The inspection that is currently required by AD 2001-24-21, takes approximately 1 work hour per airplane to accomplish, at an average labor rate of $65 per work hour. Based on these figures, the cost impact of the currently required actions on U.S. operators is estimated to be $65 per airplane.

The revision of the wire bundle support clamp installation that is currently required by AD 2001-24-21 takes approximately 2 work hours per airplane to accomplish, at an average labor rate of $65 per work hour. Based on these figures, the cost impact of the currently required actions on U.S. operators is estimated to be $130 per airplane.

For Groups 1, 2, and 3 airplanes: It would take approximately 2 work hours per airplane to do the new revision of the wire bundle support clamp installation, at an average labor rate of $65 per work hour. Required parts cost would be minimal. Based on these figures, the cost impact of the proposed installation is estimated to be $38,740, or $130 per airplane.

For Group 4 airplanes: It would take approximately 1 work hour per airplane to do the new modification of the wire bundle, at an average labor rate of $65 per work hour. Required parts cost would be minimal. Based on these figures, the cost impact of the proposed modification is estimated to be $19,370, or $65 per airplane.

The cost impact figures discussed above are based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12538 (66 FR 64121, December 12, 2001), and by adding a new airworthiness directive (AD), to read as follows:

McDonnell Douglas: Docket 2002-NM-283-AD. Supersedes AD 2001-24-21, Amendment 39-12538.

Applicability: Model DC-10-10, DC-10-10F, DC-10-15, DC-10-30, DC-10-30F, DC-10-30F (KC10A and KDC-10), DC-10-40, DC-10-40F, MD-10-10F, and MD-10-30F airplanes; as listed in Boeing Alert Service Bulletin DC10-24A149, Revision 04, dated March 26, 2003; certificated in any category.

Compliance: Required as indicated, unless accomplished previously.

To prevent chafing of the wire bundle located behind the flight engineer's panel caused by the wire bundle coming in contact with the lower edge of the feed-through, and consequent electrical arcing, which could result in smoke and fire in the cockpit, accomplish the following:

Restatement of Requirements of AD 2001-24-21

Inspection and Repair, If Necessary

(a) Within 1 year after June 21, 2000 (the effective date of AD 2000-10-03, amendment 39-11727), perform a one-time detailed inspection to determine if the wire segments of the wire bundle routed through the feed-through on the aft side of the flight engineer's station are damaged or chafed, in accordance with McDonnell Douglas Alert Service Bulletin DC10-24A149, Revision 01, dated July 28, 1999; or Boeing Alert Service Bulletin DC10-24A149, Revision 02, dated April 5, 2001; Revision 03, dated September 19, 2002; or Revision 04, dated March 26, 2003. If any damaged or chafed wire is found, prior to further flight, repair in accordance with the alert service bulletin.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc. may be used. Surface cleaning and elaborate access procedures may be required.”

Revision of Wire Bundle Support Clamp Installation

(b) Within 1 year after January 16, 2002 (the effective date of AD 2001-24-21, amendment 39-12538), revise the wire bundle support clamp installation at the flight engineer's station, per Boeing Alert Service Bulletin DC10-24A149, Revision 02, dated April 5, 2001.

New Requirements of This AD

New Revision of Wire Bundle Support Clamp Installation

(c) Within 1 year after the effective date of this AD, do the applicable actions specified in paragraph (c)(1), (c)(2), or (c)(3) of this AD, per Boeing Alert Service Bulletin DC10-24A149, Revision 04, dated March 26, 2003.

(1) For Group 1 airplanes, as defined in Boeing Alert Service Bulletin DC10-24A149, Revision 04, dated March 26, 2003: Revise the wire bundle support clamp installation at the flight engineer's station.

(2) For Group 2 airplanes, as defined in Boeing Alert Service Bulletin DC10-24A149, Revision 04, dated March 26, 2003: Revise the wire bundle support clamp installation at the flight engineer's station.

(3) For Group 3 airplanes, as defined in Boeing Alert Service Bulletin DC10-24A149, Revision 04, dated March 26, 2003: Revise the wire bundle support clamp installation at the first observer's station.

Modification

(d) For Group 4 airplanes, as defined in Boeing Alert Service Bulletin DC10-24A149, Revision 04, dated March 26, 2003: Within 1 year after the effective date of this AD, modify the wire bundle per the Accomplishment Instructions of Boeing Alert Service Bulletin DC10-24A149, Revision 04, dated March 26, 2003.

Alternative Methods of Compliance

(e) In accordance with 14 CFR 39.19, the Manager, Los Angeles Aircraft Certification Office, FAA, is authorized to approve alternative methods of compliance for this AD.

Issued in Renton, Washington, on September 26, 2003.
Ali Bahrami,
Acting Manager, Transport Airplane Directorate, Aircraft Certification Service.

[FR Doc. 03-24975 Filed 10-1-03; 8:45 am]

BILLING CODE 4910-13-U